DEPARTMENT OF LABOR

Office of the Secretary

Combating Child Labor in Zambia Through Education

AGENCY: Bureau of International Labor Affairs, Department of Labor.

ACTION: Notice of availability of funds and solicitation for cooperative agreement Applications (SGA 02-07).

This notice contains all of the necessary information and forms needed to apply for cooperative agreement funding.

SUMMARY: The U.S. Department of Labor, Bureau of International Labor Affairs will award up to US $2 million through a cooperative agreement to an organization or organizations to improve access to quality education programs as a means to combat child labor in Zambia. The program will complement and expand upon existing activities to improve education in select rural and peri-urban communities, predominantly in the Copperbelt, Eastern, Lusaka, Southern and/or Western Provinces, to prevent children's migration to urban areas and engagement in the worst forms of child labor. The education program will work towards reduced child labor in Zambia through: (1) Improved community awareness-raising efforts on the importance of education for children engaged in or at risk of the worst forms of child labor; (2) strengthened quality of educational opportunities in government and alternative schools; (3) increased ministerial and NGO capacity and inter-institutional coordination; and (4) improved resource mobilization.

DATES: The closing date for receipt of applications is July 31, 2002. Applications must be received by 4:45 p.m. (Eastern Time) at the address below. No exceptions to the mailing, delivery, and hand-delivery conditions set forth in this notice will be granted. Applications that do not meet the conditions set forth in this notice will not be honored. Telegram, facsimile (FAX), and e-mail applications will not be honored.

ADDRESSES: Application forms will not be mailed. They are published in this Federal Register Notice, and in the Federal Register which may be obtained from your nearest U.S. Government office or public library or online at http://www.nara.gov/fedreg/nfpubs.html. Applications must be delivered to: U.S. Department of Labor, Procurement Services Center, 200 Constitution Avenue, NW., Room N-5416, Attention: Lisa Harvey, Reference: SGA 02-07, Washington, DC 20210. Applications sent by e-mail, telegram, or facsimile (FAX) will not be accepted. Applications sent by other delivery services, such as Federal Express, UPS, etc., will be accepted; however, the applicant bears the responsibility for timely submission.

FOR FURTHER INFORMATION CONTACT: Lisa Harvey. E-mail address: harvey-lisa@dol.gov. All applicants are advised that U.S. mail delivery in the Washington, DC area has been slow and erratic due to the recent concerns involving anthrax contamination. All applicants must take this into consideration when preparing to meet the application deadline. It is recommended that you confirm receipt of your application by contacting Lisa Harvey, U.S. Department of Labor, Procurement Services Center, telephone (202) 693-4570 (this is not a toll-free number), prior to the closing deadline. All inquiries should reference SGA 02-07. See Section III.C for additional information.

SUPPLEMENTARY INFORMATION: The U.S. Department of Labor (USDOL), Bureau of International Labor Affairs (ILAB), announces the availability of funds to be granted by cooperative agreement (hereafter referred to as “grant”) to one or more qualifying organizations for the purpose of promoting school attendance and combating child labor in Zambia. The grant will be managed by ILAB's International Child Labor Program to assure achievement of the stated goals. Applicants are encouraged to be creative in proposing cost-effective interventions that will have a demonstrable impact in promoting school attendance and reducing migration of children from rural and peri-urban areas to urban communities and the incidence of Zambian children engaged in or most at risk of working in the worst forms of child labor.

I. Background and Program Scope

A. USDOL Support of Global Elimination of Child Labor

The International Labor Organization (ILO) estimates 250 million children between the ages of five and 14 work in developing countries, with about half working full-time. Full-time child workers are generally unable to attend school and part-time child labors balance economic survival with schooling from an early age, often to the detriment of their education. Since 1995, the U.S. Congress has directed USDOL to support worldwide technical assistance programs implemented by the International Labor Organization's International Program on the Elimination of Child Labor (ILO/IPEC). To date, USDOL has contributed US $112 million to ILO/IPEC, making the United States the program's largest donor and a leader in global efforts to combat child labor.

In Zambia, USDOL has provided over US $1.5 million for four ILO/IPEC projects to improve data collection, support a national program seeking progressive elimination of child labor, withdraw children from Zambia's worst forms of child labor (as defined by the ILO Convention No. 182), and participate in regional efforts to withdraw children from hazardous work in commercial agriculture and conduct further research on the relationship between HIV/AIDS and child labor. (For further information regarding USDOL funded ILO/IPEC activities in Zambia see Appendix C.)

In FY 2001 and FY 2002, in addition to US $90 million in funds earmarked for ILO/IPEC efforts, US $74 million was appropriated to USDOL for a Child Labor Education Initiative to fund programs increasing access to quality, basic education in areas with a high incidence of abusive and exploitative child labor. The grant awarded under this solicitation will be funded through this new initiative.

USDOL's Child Labor Education Initiative seeks to nurture the development, health, safety and enhanced future employability of children around the world by increasing access to basic education for children removed from work or at risk of entering into labor. Child labor elimination depends in part on improving access to, quality of, and relevance of education.

The Child Labor Education Initiative has four goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

B. Child Labor and Educational Access in Zambia

Child labor in Zambia is set in a context of severe economic deterioration, rising HIV/AIDS rates and pervasive poverty. An estimated 73 to 90 percent of the population lives below the poverty line; and 20 percent of Zambians aged 15 to 49 are HIV/AIDS infected. Over one million children are expected to be orphaned by the disease by 2014. At least 75 percent of households care for those affected by HIV/AIDS; 37 percent have taken in orphaned children; and children head approximately seven percent of all households.

Increased family sizes and child-headed households have significant ramifications on child labor. The 1999 Zambia Child Labor Survey found that child labor rates rapidly increase the larger the household. In 1999, of 3.8 million children aged 5-17, over 15 percent (595,033) worked. While approximately 87 percent of working children nationally labor in the agricultural sector, the number of children migrating to urban areas and living as street children has recently exploded. In 1998, an estimated 75,000 children lived on the street and this number continues to grow. With recent ratification by Zambia of ILO Convention No. 182 on the Worst Forms of Child Labor (ILO Convention No. 182), Zambia has committed to immediate and effective measures to prohibit and eliminate the worst forms of child labor, including work that by its nature is hazardous, work in illicit activities such as the drug trade, and prostitution or sexually exploitative labor. Zambian children living in rural and peri-urban communities that are near main truck routes are particularly at risk of engaging in prostitution at truck stops and find easy access into urban centers, where they become street children exposed to many hazards and involved in exploitative or dangerous labor.

Over the last twenty years, Zambia's education system has greatly deteriorated, in part due to falling public resources for schools. A cost-sharing policy introduced in 1995 shifted many school expenditures, including building maintenance and school supplies, to families and communities. The Zambian government estimates that between 600,000 and 800,000 children are currently out of school. UNICEF has reported that three-fourths of children dropping out of primary school do so because of the associated costs. Since 1996, Zambia's Ministry of Education (MOE) has sought to stem declining school attendance, first with the Educating Our Future policy aimed at promoting education for all and then by launching the Basic Education Sub-sector Investment Program (BESSIP). This large-scale education reform effort seeks improved access, quality and relevance of education with the assistance of international donors, and specifically decentralizes more management and personnel decisions to the provinces. Alternative school activities have also developed to meet the needs of out-of-school children. These include over 700 “community schools,” around the country, organized and managed by communities and independent from the existing government structures, that come together under an umbrella organization called the Zambian Community Schools Secretariat (ZCSS). The government has also introduced Interactive Radio Instruction (IRI) to provide basic education to out-of-school children through a radio broadcasted educational program gathered in one of 350 centers throughout Zambia with the help of volunteer community mentors.

The Zambian government, international donors and many local organizations have also invested in community-based mobilization strategies to address the reasons children do not attend school. Some of the key actors include the Ministries of Community Development and Social Services (MCDSS); Sport, Youth and Child Development (MSYCD); Labor and Social Security (MLSS); ILO/IPEC; UNICEF; USAID; Children in Need Network (CHIN); and ZCSS among others. (See Appendix D for further information.)

C. Barriers to Educating Children Engaged in or at Risk of Working in the Worst Forms of Child Labor

Despite the many activities underway in Zambia, efforts to ensure the most vulnerable children—orphans, street children, poor children, out-of-school and working children, girls, and children with disabilities—have access to quality educational opportunities inevitably face shortcomings. At the local, regional, and national levels, there simply are not enough resources or capacity to address the many and complex needs. Some major barriers to meeting the educational needs of children engaged in or at risk of entering the worst forms of child labor in Zambia are listed below:

1. Lack of Knowledge and Awareness

Community members' ability to improve the educational outcomes of children engaged in or at risk of engaging in the worst forms of child labor is in part dependent on understanding these children's educational needs and the resources available to address the problems. Some of the gaps in knowledge and awareness at the local level include:

• Lack of awareness by social partners of their potential role in reducing child labor and promoting school attendance.

Media attention and awareness-raising efforts have taken place in Zambia on children's rights and the problem of child labor. However, local actors including political and educational authorities, NGOs, media, faith-based and community organizations and religious leaders, local chiefs, local authorities, teachers and heads of school, and employers may not understand the educational needs of children engaged in or at risk of engaging in the worst forms of child labor. They often lack awareness of concrete actions that could take place in their communities to reduce child labor and promote school attendance and families often feel powerless to change a severely deteriorated education system. Additionally, national awareness-raising campaigns often do not reach community members who do not speak English or who are illiterate, as materials are often in print and are not provided in local languages.

• Lack of awareness of new child labor and education policies and strategies.

With ratification of ILO Convention No. 182, the Zambian government committed to immediate action to eliminate the worst forms of child labor. However, this is not well known by individuals, local leaders and communities, nor are the implications of the commitment understood. Activities at a national level, such as reconciled inconsistencies in education policy and child labor law, have not reached local communities. For example, the 1996 Education Policy declared that no child should be barred from attending school due to inability to pay school fees. However, because of a lack of monitoring tools and systems for enforcing such policies, many local community decision-makers continue to use fees as a way of preventing overcrowding and covering basic school finances. As the MOE moves towards further decentralization, local authorities will need to be particularly sensitive to the barriers faced by children engaged in or at risk of entering the worst forms of child labor.

2. Education System Constraints

Some Zambian parents and guardians are reluctant to send their children to school because they rely on them for work, to scavenge for food, or to care for sick relatives. However, parents and guardians are also dissuaded because of the low quality of schools and disbelief that attending school will increase their children's knowledge and skills or lead to better paying jobs or improved quality of life. There are a number of specific barriers to school quality for the Zambian children engaged in or at risk of entering the worst forms of child labor, including:

• Inadequately trained teachers with low motivation.

In government and community schools, teachers are often poorly trained or lack adequate qualifications. In rural and outlying areas in particular, adequately staffing schools is hampered by high attrition rates of teachers due to death and illness resulting from HIV/AIDS, poor comparative compensation packages (including housing), and difficult working conditions. As a result, quality teachers are more likely to stay in urban areas or migrate to other countries such as Botswana where the pay is higher. Because of the lack of teachers in rural areas, school buildings might be unused. Where there is at least one teacher, class sizes can end up in the hundreds. Lack of teachers in government schools is one reason that community schools have emerged, where community members take it upon themselves to provide an education to children, despite receiving little or no compensation. However, teachers in community schools, as well as community mentors leading the radio-based IRI classes, are largely untrained and lack classroom experience and, therefore, are not familiar with curriculum development or basic classroom instruction. The MOE has signed a Memorandum of Agreement with the ZCSS to send government personnel to community schools or offer community volunteers access to teacher training programs.

• Lack of relevant or quality curriculum.

The MOE is working to improve the quality of literacy, numeracy, life skills, HIV/AIDS education and other curricular materials for government schools. However, teachers, students and guardians often complain that what is taught in schools is not relevant or practical, particularly in rural communities. The ZCSS has made some strides in improving the quality of community school instruction by developing the SPARKS (School, Participation, Access and Relevant Knowledge) curriculum, which adapts the government curriculum to better serve the needs of children who have been out of school for sometime. However some 200 schools are not registered by the ZCSS, indicating that minimum academic standards have not been met.

Children withdrawn from labor also have particular needs current curriculum does not address. The MOE plans to review the government curriculum in light of the needs of child laborers (see Appendix D), however local teachers and school administrators will continue to need assistance in effectively tailoring curricula to the learning needs of children in their communities who are engaged in or at risk of engaging in the worst forms of child labor.

• Lack of basic teaching supplies.

Teachers in rural and outlying districts often lack the basic education materials they need to effectively teach. While the MOE has provided some government schools with textbooks and teacher-guides, these efforts fall short of the need. Teachers also report shortages in supplies like chalk and maps. Community schools and the radio-based IRI centers face similar deficiencies in supplies. For example, communities interested in organizing a learning center may be unable to access radios, batteries, or IRI teaching guides with which to conduct the class.

• Limited access to quality vocational education.

Many older children and their families often realize that they cannot complete or study beyond primary school. In these cases, technical or vocational education would be a preferred option. In Zambia there are many challenges to obtaining good vocational education. Government and NGOs programs do not sufficiently address the demand, are not often of high quality, and do not always lead to opportunities in the formal employment sectors. Older children often have difficulty affording the cost of these programs or do not meet minimum standards, and for child heads of households this can be particularly challenging. Poor children who have engaged in apprenticeship programs also often have difficulty obtaining the tools and supplies they need to effectively put their training to use. Lacking academic or occupational options, these youngsters may have little recourse to entering into exploitative and abusive employment or apprenticeships.

3. Institutional and Policy Challenges

Zambian government ministries concerned with child welfare, national-level institutions, and NGOs face a number of challenges to their capacity and infrastructure, given the vast needs in Zambia. Some of these include:

• Lack of quality national data systems for policy formulation.

Estimating the number of children engaged in child labor and determining the correlation between labor, school attendance and educational performance cannot be done without an effective and maintainable data system. The Zambian government, institutions and NGOs have established or are developing databases and information collection mechanisms on child laborers and vulnerable children's educational progress. Efforts include the monitoring of equity gender issues from schools, districts, provincial and national levels as part of BESSIP; ZCSS's Community School Database; data collection on performance of the IRI; the proposed database on child labor to be managed by the MLSS; individual NGOs collecting working children's profiles; and others. However, these institutions have insufficient human resources and infrastructure capacity to maintain these systems and update the information frequently so that the data can be effectively used to inform policy and improve programs.

• Challenges implementing decentralization of education policy.

Decentralization promotes broad-based participation in the management of education and places emphasis on creativity, innovation and imagination of the local-level education managers. While this approach may foster a greater sense of local ownership and promote better delivery of services, many communities do not yet have the capacity to fully participate and hold educational authorities accountable, and will need support to effectively take on the role. Additionally, local educational authorities often lack experience or capacity in areas like educational planning, resource allocation, and monitoring for educational quality.

• Limited national coordination on the educational needs of child laborers.

Many actors are involved in addressing issues related to child labor and seeking to improve educational access for the most vulnerable of Zambia's children, including those identified in Section I.B and Appendix D. Though some coordination has taken place among individual entities, greater focus is needed among and between NGOs and government ministries on the specific educational needs of the children most at risk of entering the worst forms of child labor. For instance, the Departments of the Ministries of Community Development and Social Welfare and Sports, Youth and Child Development are members of the Children in Need Network (CHIN). The National Steering Committee on Child Labor established through the ILO/IPEC national program includes representation of several ministries, UNICEF and CHIN, among others. However, currently these groups tend to focus on the needs of street children in Lusaka and less on the needs of working children in the rural and peri-urban communities and preventative actions to halt children's migration. While it is in the explicit mission of ministries concerned with child welfare to address the needs of vulnerable children, the varying resources of these ministries could be better coordinated to address the sizable number of children they target. Advocacy organizations and NGOs also have had successes at the local level that could be shared more effectively and used as models in government policy and resource delivery.

4. Resource Constraints

Given Zambia's vast poverty and severe economic problems, there are a number of challenges due to a lack of resources that impede both local and national actors from effectively providing children engaged in or at risk of entering the worst forms of child labor with quality educational opportunities, including:

• Family poverty and lack of access to social protection programs.

School fees are often quite high and, with little or no wages, parents and guardians frequently cannot cover the required costs of books, supplies and Parent Teacher Association fees. When these fees are compounded with the lost wages of a child removed from labor, the costs can prohibit school attendance. Malnutrition and poor health are also barriers to learning for poor children, particularly in large extended families. If parents and guardians are unable to access poverty alleviation programs, income generation activities, or food and health programs for their children, other educational improvement efforts are unlikely to be successful.

• Non-existent or poor school infrastructure.

In some communities there are no government schools and distances to school buildings can exceed 10 kilometers. Under BESSIP almost 2000 classrooms have been constructed since 1999 and there are plans to construct more. However, in the short-term there are not enough school spaces for all children and large number of existing schools require rehabilitation to be safe. Community schools have also emerged to address this gap in school infrastructure. However, as classes are often conducted in the open air if a school building does not exist, conditions are not optimal.

• Limited public resources for education.

Although the public sector resources devoted to education have increased under BESSIP, they are still insufficient relative to the vast need. For example, government sponsored bursaries to enable the most vulnerable children, such as child laborers, to pay educational fees do not adequately support the large number of eligible children. Additionally, though it may be reasonable to develop alternative school schedules such as evening programs to address overcrowding or cater to the needs of children currently caring for sick family members, working children and youth, it has not been possible to pay teachers for additional class time. The Government of Zambia acknowledges that it cannot meet the educational needs of all by itself, and it is because of these resource constraints that the government has encouraged and supported alternative schooling options. However, community schools or IRI programs put additional pressures on communities to mobilize resources for education and to address their own problems.

The above barriers to access and quality of education for children engaged in or at risk of entering the worst forms of child labor manifest themselves in different ways in different communities. While these headings attempt to capture the greatest barriers for communities, it must be recognized that solving these problems requires identifying the key actors and major impediments to schooling at a community level.

II. Authority

ILAB is authorized to award and administer this program by the Consolidated Appropriations Act, 2001, Pub. L. 106-554, 114 Stat. 2763A-10 (2000).

III. Application Process

A. Eligible Applicants

Any commercial, international, or non-profit organization capable of successfully developing and implementing education programs for child laborers or children at risk is eligible to apply for this grant. Partnerships of more than one organization are also eligible, and applicants are strongly encouraged to work with organizations already undertaking projects in Zambia, including local NGOs (see Appendix D). In the case of partnerships, a lead organization must be identified. The capability of an Applicant or Applicants to perform necessary aspects of this solicitation will be determined under Section V.B Rating Criteria and Selection.

Please note that eligible grant applicants must not be classified under the Internal Revenue Code as a 501(c)(4) entity. See 26 U.S.C. 501(c)(4). According to section 18 of the Lobbying Disclosure Act of 1995, an organization, as described in section 501(c)(4) of the Internal Revenue Code of 1986, that engages in lobbying activities will not be eligible for the receipt of federal funds constituting an award, grant, or loan.

B. Submission of Applications

One (1) ink-signed original, complete application in English plus two (2) copies of the application, must be submitted to the U.S. Department of Labor, Procurement Services Center, 200 Constitution Avenue, NW, Room N-5416, Washington, DC 20210, not later than 4:45 p.m. Eastern Time, July 31, 2002. Accompanying documents must also be in English. To aid with review of applications, USDOL also encourages Applicants to submit two additional paper copies of the application (five total). Applicants who do not provide additional copies will not be penalized.

The application must consist of two (2) separate parts. Part I of the application must contain the Standard Form (SF) 424, “Application for Federal Assistance” (Appendix A) (The entry on SF 424 for the Catalog of Federal Domestic Assistance Number (CFDA) is 17.700) and sections A-F of the Budget Information Form SF 424A (Appendix B). Part II must contain a technical application that demonstrates capabilities in accordance with the Statement of Work (Section IV.A) and Rating Criteria (Section V.B).

To be considered responsive to this solicitation, the application must consist of the above-mentioned separate sections not to exceed 25 single-sided (8½″ × 11″), double-spaced, 10 to 12 pitch typed pages. Any applications that do not conform to these standards may be deemed non-responsive to this solicitation and may not be evaluated. Standard forms and attachments are not included in the page limit. Each application must include a table of contents and an abstract summarizing the application in not more than two (2) pages. These pages are also not included in the page limits.

Upon completion of negotiations, the individual signing the SF 424 on behalf of the Applicant must be authorized to bind the Applicant.

C. Acceptable Methods of Submission

The grant application package must be received at the designated place by the date and time specified or it will not be considered. Any application received at the Office of Procurement Services after 4:45 pm Eastern Time, July 31, 2002, will not be considered unless it is received before the award is made and:

1. It was sent by registered or certified mail not later than the fifth calendar day before July 31, 2002;

2. It is determined by the Government that the late receipt was due solely to mishandling by the Government after receipt at the U.S. Department of Labor at the address indicated; or

3. It was sent by U.S. Postal Service Express Mail Next Day Service-Post Office to Addressee, not later than 5:00 pm at the place of mailing two (2) working days, excluding weekends and Federal holidays, prior to July 31, 2002.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's-eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Service Center on the application wrapper or other documentary evidence or receipt maintained by that office.

Applications sent by e-mail, telegram, or facsimile (FAX) will not be accepted. Applications sent by other delivery services, such as Federal Express, UPS, etc., will be accepted, however, the applicant bears the responsibility for timely submission. Because of delay in the receipt of mail in the Washington, DC area, it is recommended that you confirm receipt of your application by contacting Lisa Harvey, U.S. Department of Labor, Procurement Services Center, telephone (202) 693-4570 (this is not a toll-free number), prior to the closing deadline. All inquiries should reference SGA 02-07.

D. Funding Levels

Up to US $2 million is available for this program. Although USDOL will award only one grant, a partnership of more than one organization may apply to implement the program.

E. Program Duration

The duration of the program funded by this SGA is four (4) years. The start date of program activities will be negotiated upon awarding of the grant.

IV. Requirements

A. Statement of Work

The Applicant will propose creative and innovative approaches aimed at reducing and preventing child labor in Zambia and the migration of children to urban areas putting them at risk of hazardous and exploitative labor. The approach suggested by the Applicant will include actions that promote an enabling environment at the national and provincial level, and specific interventions at the local level to improve basic education options in rural and peri-urban communities where there is the greatest risk of having children engage in the worst forms of labor. For instance, areas with communities and families in extreme poverty and with high HIV/AIDS rates, high rates of child abandonment due to death of a parent or family crisis, lack of food security, particularly deficient education systems, or easy access for children to truck routes leading to urban environments. The Applicant should propose activities both at community and national levels that are responsive to the barriers to education outlined in Section I.C.

The Applicant should identify the project's specific geographical target with consideration to those regions where existing child protection and education efforts are underway that can be effectively expanded or strengthened (See Appendix D). To make most efficient use of USDOL funds, it is highly recommended the Applicant limit proposed project activities to a few select rural and peri-urban areas in the Copperbelt, Eastern, Lusaka, Southern and/or Western Provinces. Applicants may propose alternate regions for project activities if compelling data on existing efforts and needs is provided. The exact number of communities and children to benefit from this project should be identified in collaboration with national and local authorities, and should support Zambia's current education reform efforts, as well as efforts to end child labor.

In order to avoid duplication, enhance collaboration, expand impact, and develop synergies, the cooperative agreement awardee (hereafter referred to as “Grantee”) should work cooperatively with Zambian stakeholders in developing project interventions. The MOE is the lead ministry for this initiative, but close coordination and consultation may also be required with other governmental and nongovernmental stakeholders and potential partners. Because of complex social and economic problems in Zambia and limited available resources under this award, Applicants are encouraged to implement programs complementing existing efforts and, where appropriate, replicate or enhance successful models to serve expanded numbers of children and communities.

The project shall support the goals of USDOL's Child Labor Education Initiative: (1) Raise awareness of the importance of education for all children and mobilize a wide array of actors to improve and expand education infrastructures; (2) strengthen formal and transitional education systems that encourage working children and those at risk of working to attend schools; (3) strengthen national institutions and policies on education and child labor; and (4) ensure the long-term sustainability of these efforts.

To the extent possible with limited project funds, the expected outcomes of the project in the targeted communities are to (1) measurably increase the number of children afforded educational opportunities; (2) decrease the numbers of children engaged in the worst forms of child labor; (3) lift the impediments to quality educational experiences, whether within the government education system or existing alternative options; (4) improve access to complementary services addressing children's larger health, nutrition, psychological, and parenting needs that would affect children's educational performance; (5) support improved national and local institutional capacity to provide supportive educational and social policy for vulnerable children in these communities; and (6) sustain the impact of activities at a community and national level.

Below is a summary of specific requirements to guide Applicants in the development of responses to this solicitation. Although USDOL is open to all proposals for innovative solutions to address the challenges of providing increased access to education to the target population, the Applicant must, at a minimum, propose approaches to address barriers to education in the following areas of implementation:

1. Awareness-Raising and Mobilization of Key Actors

This component aims to use awareness-raising efforts to inform and mobilize strong local and national commitment to concrete actions promoting school attendance among children engaged in or most at risk of entering the worst forms of child labor.

a. Development of communication strategy. The Applicant should propose an appropriate communication strategy to raise awareness and influence behavior of multiple actors regarding the importance of educating children engaged in or most at risk of entering the worst forms of child labor. The Applicant should propose key audiences and messages for awareness-raising campaigns. Proposed strategies should take into account communication methods considered to be locally effective given the literacy rates and linguistic needs of target populations. Communication strategies should also seek to increase awareness of national child labor and education policies and strategies.

b. Increased involvement in community decision-making. The Applicant should suggest approaches to increase parental, guardian, youth and community member understanding of current Zambian education and child labor policy and its implications for local leaders. The approach should outline methods to promote and strengthen existing decision-making infrastructures or create effective task-oriented multi-sectoral or public-private partnerships at the community and regional levels to address child labor and increase access to basic education.

2. Strengthen Government and Alternative Education Systems

Strategies to strengthen Zambian educational opportunities in selected communities should address the needs of target children, including: (1) Young children within the formal education system to prevent their dropout and entry into child labor and increase the rate of primary school completion; (2) out-of-school children of primary school age; and (3) older children of legal working age for basic education programs and/or improved job and self-employment skills. Specific strategies may vary depending on the age of the children, their former experience in the education system and community specific parameters. As part of its proposed strategies the Applicant should suggest activities in the areas listed below and, if appropriate, in other innovative areas not identified in this solicitation.

a. Identification of beneficiaries. The Applicant should outline criteria for identifying the number and location of target communities, interventions and the numbers of children to be targeted and the criteria used to designate targeted beneficiaries. The application should describe how the Applicant intends to collect or use existing baseline data on these beneficiaries in program development.

b. Training and professional development for teachers. The Applicant should identify methods for recruitment of and improvement in the knowledge, skills, morale and professionalism of teachers in government and alternative school systems so that they may better address the education needs of the target population, especially children who have dropped out to work or have never been to school. Suggested approaches to teacher development should indicate linkages with existing teacher training institutions and programs in Zambia. Attention should be given, where relevant, to providing sustained support for and increased skills among teachers in community schools and IRI mentors.

c. Development of curricular materials and procurement of supplies. The Applicant should suggest approaches for developing or improving upon existing curricular materials to increase their relevance for children engaging in or at risk of engaging in the worst forms of child labor and children who have been out of school for some time or are well behind grade level. The recommended approach should assist teachers and local administrators with effectively implementing and tailoring national or existing curriculum like SPARKS used in many community schools to community specific needs. Additionally, the approach should outline potential methods for developing or acquiring school supplies necessary to implement the proposed curricula.

d. Development of targeted vocational education programs. The Applicant should suggest approaches to implement or enhance pre-vocational and vocational training skills for employment and self-employment that better support the needs of poor children and child heads of households. The Applicant should also suggest approaches for improving job placement or self-employment after training, where relevant, including means of ensuring that poor students can access appropriate tools and supplies to successfully implement employment initiatives.

3. Strengthen National Institutions and Policies on Education and Child Labor

This component should promote approaches to increase capacity among government institutions and civil society organizations to collect and use information, implement policies, and monitor progress towards the prevention of child labor through school retention and reintegration of children into education settings in lieu of work. Specifically, the Applicant should propose approaches to implementation in the following areas:

a. Data collection and policy analysis. The Applicant should suggest approaches to improve the capacity of governmental and nongovernmental organizations to collect and use data to inform education and child labor policy and to allocate resources appropriately. The Applicant should outline means of strengthening the capacity of government and key civil society and community organizations to monitor and follow up on data collected regarding the education of child laborers and children at risk of entering the worst forms of child labor. The approach should take into consideration current efforts of the Ministries of Education and Labor, and suggest ways to complement and strengthen current government and nongovernmental organization activities.

b. Strengthening local capacity to implement decentralization. The Applicant should identify major institutions and individuals to be targeted and suggest specific approaches to build the management skills and capacity of local educational authorities and stakeholders to implement MOE's decentralization strategy. As part of this approach the Applicant should propose means of improving linkages among these educational authorities. The Applicant may also include strategies to build the capacity of community members to oversee community schools.

c. Facilitation of inter-institutional coordination. The Applicant should suggest means for facilitating and enhancing inter-institutional coordination and capacity building of current networks among and between government ministries and nongovernmental organizations working to improve the education of Zambia's most vulnerable children. The Applicant should identify expected outcomes from improved coordination, in the realms of improved implementation of existing policies and laws on school attendance and child labor in target areas of project intervention; coordinated planning, resource mobilization, and distribution of resources; and/or further identification, development and expansion of models for improving the educational outcomes of children engaged in or at risk of entering the worst forms of child labor.

4. Resource Mobilization

This component will build capacity to mobilize resources to improve government and community schools and other alternative educational programs.

a. Resource linkages to better support children, families and communities. The Applicant should suggest means for mobilizing resources to assist poor families and communities to pay school costs and support the non-education specific needs of children that are barriers to learning, such as malnutrition and health problems.

b. Improving access to and distribution of national and non-public resources. The Applicant should suggest an approach for efficient delivery of appropriate existing government and donor resources to target communities. The Applicant should include approaches to building the capacity of advocacy networks such as CHIN and ZCSS to effectively communicate the needs of local communities to national infrastructures and ensure they are distributed in effective and fair ways.

In implementing the proposed statement of work, the Applicant should design approaches that encourage sustainability of impact on individuals, organizations and system-wide. For individual children and their families this would mean a positive and enduring change in their life conditions as a result of project interventions. At the level of organizations and systems, sustained impact would involve continued commitment and ability to maintain outcomes generated by the project, such as policy changes and implementation, as long as they are still needed.

B. Deliverables

In addition to meeting the above requirements, the Grantee will also be expected to monitor the implementation of the program, report to USDOL on a quarterly basis, and evaluate program results. The grant will include funds to plan, implement and evaluate programs and activities, conduct various studies pertinent to project implementation, and to establish education baselines to measure program results. Corresponding indicators of performance will also be developed by the Grantee and approved by USDOL. Unless otherwise indicated, the Grantee must submit copies of all required reports to ILAB by the specified due dates. Other documents, such as project design documents, are to be submitted by mutually agreed upon deadlines.

1. Project Designs

A project document in a format to be established by ILAB in the logical framework format will be used, and will include a background/justification section, project strategy (objectives, outputs, activities, indicators, means of verification), project implementation timetable and project budget. The project design will be drawn from the application written in response to this solicitation and negotiations with ILAB in final design. The document will also include sections that address coordination strategies, project management and sustainability. Delivery date of this document will be negotiated at the time of the award.

2. Technical and Financial Progress Reports

The Grantee must furnish a typed technical report to ILAB on a quarterly basis by 31 March, 30 June, 30 September, and 31 December. The Grantee must also furnish a separate financial report (SF 272) to ILAB on the quarterly basis mentioned above. The format for the technical progress report will be the format developed by ILAB and must contain the following information:

a. For each project objective, an accurate account of activities carried out under that objective during the reporting period;

b. An accounting of travel performed under the grant during the reporting period, including purpose of trip, persons or organizations contacted, and benefits derived;

c. A description of current problems that may impede performance, and proposed corrective action;

d. Future actions planned in support of each project objective;

e. Aggregate amount of costs incurred during the reporting period; and

f. Progress on indicators (to be reported annually).

3. Annual Work Plan

An annual work plan will be developed within two months of project award and approved by ILAB so as to ensure coordination with other relevant social actors in Zambia. Subsequent annual work plans will be delivered no later than one year after the previous one.

4. Monitoring and Evaluation Plan

A monitoring and evaluation plan will be developed, in collaboration with ILAB, including beginning and ending dates for the project, planned and actual dates for mid-term review, and final end of project evaluations. The monitoring plan will be prepared after completion of baseline surveys, including revision of indicators provided in project document, targets, and means of verification.

5. Evaluation Reports

The Grantee and the Grant Officer's Technical Representative (GOTR) will determine on a case-by-case basis whether mid-term evaluations will be conducted by an internal or external evaluation team. All final evaluations will be external in nature. The Grantee must respond to any comments and recommendations resulting from the review of the mid-term report.

C. Production of Deliverables

1. Materials Prepared Under the Grant

The Grantee must submit to ILAB all media-related and educational materials developed by it or its sub-contractors before they are reproduced, published, or used. ILAB considers that education materials include brochures, pamphlets, videotapes, slide-tape shows, curricula, and any other training materials used in the program. ILAB will review materials for technical accuracy. The Grantee must obtain prior approval from the Grant Officer for all materials developed or purchased under this grant. All materials produced by the Grantee must be provided to ILAB in a digital format for possible publication by ILAB.

2. Acknowledgment of USDOL Funding

In all circumstances, the following must be displayed on printed materials:

“Preparation of this item was funded by the United States Department of Labor under Cooperative Agreement No. E-9-X-X-XXXX.”

When issuing statements, press releases, requests for proposals, bid solicitations, and other documents describing projects or programs funded in whole or in part with Federal money, all Grantees receiving Federal funds, including State and local governments and recipients of Federal research grants, must clearly state:

a. The percentage of the total costs of the program or project that will be financed with Federal money;

b. The dollar amount of Federal funds for the project or program; and

c. The percentage and dollar amount of the total costs of the project or program that will be financed by non-governmental sources.

In consultation with ILAB, USDOL will be acknowledged in one of the following ways:

a. The USDOL logo may be applied to USDOL funded material prepared for worldwide distribution, including posters, videos, pamphlets, research documents, national survey results, impact evaluations, best practice reports, and other publications of global interest. The Grantee will consult with USDOL on whether the logo should be used on any such items prior to final draft or final preparation for distribution. In no event will the USDOL logo be placed on any item until USDOL has given the Grantee written permission to use the logo, after obtaining appropriate internal USDOL approval for use of the logo on the item.

b. If ILAB determines that the use of the logo is not appropriate and does not give written permission, the following notice must appear on the document: “This document does not necessarily reflect the views or policies of the U.S. Department of Labor, nor does mention of trade names, commercial products, or organizations imply endorsement by the U.S. Government.”

D. Administrative Requirements

1. General

Grantee organizations are subject to applicable U.S. Federal laws (including provisions of appropriations law) and the applicable Office of Management and Budget (OMB) Circulars. Determinations of allowable costs will be made in accordance with the applicable U.S. Federal cost principles. The grant awarded under this SGA is subject to the following administrative standards and provisions, if applicable:

29 CFR Part 36—Federal Standards for Nondiscrimination on the Basis of Sex in Education Programs or Activities Receiving Federal Financial Assistance.

29 CFR Part 93—New Restrictions on Lobbying.

29 CFR Part 95—Uniform Administrative Requirements for Grants and Agreements with Institutions of Higher Education, Hospitals and Other Non-Profit Organizations, and with Commercial Organizations, Foreign Governments, Organizations Under the Jurisdiction of Foreign Governments and International Organizations.

29 CFR Part 96—Federal Standards for Audit of Federally Funded Grants, Contracts and Agreements.

29 CFR Part 98—Federal Standards for Government-wide Debarment and Suspension (Nonprocurement) and Government-wide Requirements for Drug-Free Workplace (Grants).

29 CFR Part 99—Federal Standards for Audits of States, Local Governments, and Non-Profit Organizations.

2. Sub-Contracts

Sub-contracts must be awarded in accordance with 29 CFR 95.40-48. In compliance with Executive Orders 12876 as amended, 13230, 12928 and 13021 as amended, the Grantee is strongly encouraged to provide sub-contracting opportunities to Historically Black Colleges and Universities, Hispanic-Serving Institutions and Tribal Colleges and Universities.

3. Key Personnel

The Applicant shall list individual(s) who has (have) been designated as having primary responsibility for the conduct and completion of all project work. The Applicant will submit written proof that key personnel will be available to begin work on the project no later than three weeks after award. The Grantee agrees to inform the GOTR whenever it appears impossible for these individual(s) to continue work on the project as planned. The Grantee may nominate substitute personnel and submit the nominations to the GOTR; however, the Grantee must obtain prior approval from the Grant Officer for all key personnel. If the Grant Officer is unable to approve the personnel change, he/she reserves the right to terminate the grant.

4. Encumbrance of Grant Funds

Grant funds may not be encumbered/obligated by the Grantee before or after the grant period of performance. Encumbrances/obligations outstanding as of the end of the grant period may be liquidated (paid out) after the end of the grant period. Such encumbrances/obligations shall involve only specified commitments for which a need existed during the grant period and which are supported by approved contracts, purchase orders, requisitions, invoices, bills, or other evidence of liability consistent with the Grantee's purchasing procedures and incurred within the grant period. All encumbrances/obligations incurred during the grant period shall be liquidated within 90 days after the end of the grant period, if practicable.

5. Site Visits

USDOL, through its authorized representatives, has the right, at all reasonable times, to make site visits to review project accomplishments and management control systems and to provide such technical assistance as may be required. If USDOL makes any site visit on the premises of the Grantee or a sub-contractor(s) under this grant, the Grantee shall provide and shall require its sub-contractors to provide all reasonable facilities and assistance for the safety and convenience of Government representatives in the performance of their duties. All site visits and evaluations shall be performed in a manner that will not unduly delay the work.

V. Review and Selection of Applications for Award

A. The Review Process

USDOL will screen all applications to determine whether all required elements are present and clearly identifiable. Each complete application will be objectively rated by a technical panel against the criteria described in this announcement. Applicants are advised that panel recommendations to the Grant Officer are advisory in nature. The Grant Officer may elect to select a Grantee on the basis of the initial application submission; or, the Grant Officer may establish a competitive or technically acceptable range for the purpose of selecting qualified Applicants. If deemed appropriate, following the Grant Officer's call for the preparation and receipt of final revisions of applications, the evaluation process described above will be repeated to consider such revisions. The Grant Officer will make final selection determination based on panel findings and consideration for factors that may be most advantageous to the Government, such as geographic distribution of the competitive applications, cost, the availability of funds and other factors. The Grant Officer's determination for award under this SGA is final.

Note: Selection of an organization as a grant recipient does not constitute approval of the grant application as submitted. Before the actual grant is awarded, USDOL may enter into negotiations about such items as program components, funding levels, and administrative systems. If the negotiations do not result in an acceptable submission, the Grant Officer reserves the right to terminate the negotiation and decline to fund the application.

B. Rating Criteria and Selection

The technical panel will review applications against the various criteria on the basis of 100 points with an additional five points available for non-federal or leveraged resources.

The factors are presented in the order of emphasis that they will receive.

1. Approach, Understanding of the Issue, and Budget Plan (40 points)

a. Overview. This section of the application must explain:

1. The Applicant's proposed innovative methods for performing all the specific areas of work requirements presented in this solicitation.

2. The expected outcomes over the period of performance for each of the tasks; and

3. The approach for producing the expected outcomes.

The Applicant should describe in detail the proposed approach to comply with each requirement in Section IV.A of this solicitation, including all tasks and methods to be utilized to implement the project. Also, the Applicant should explain the rationale for using this approach and any specific criteria to be used in decision-making. In addition, this section of the application should demonstrate the Applicant's thorough knowledge and understanding of the issues involved in providing education to children engaged in or at risk of engaging in the worst forms of child labor; best-practice solutions to address their needs; and the implementing environment in Zambia.

b. Implementation Plan. The Applicant must submit an implementation plan, preferably with a visual such as a Gantt chart, for the project in Zambia. The implementation plan should list the outcomes, objectives and activities during the life of the project, and scheduling of time and staff starting with the execution of the grant and ending with the final report. In describing the implementation plan, the Applicant should address the following points:

1. Explain how appropriate awareness-raising and training activities and materials will be developed.

2. Identify criteria to be used in selecting communities to be served and explain planned community specific activities and how each relates to the overall development objective of reducing child labor through education.

3. Demonstrate how the organization will strengthen national institutions and policies on improving educational access for children engaged in or at risk of engaging in the worst forms of child labor.

4. Describe the use of existing or potential infrastructure and activities to implement the project. The Applicant should indicate proposed links with government, civil society leaders, educators, and other significant local actors to meet the educational and related needs of the target population to be served.

5. Demonstrate how the organization would build national and local capacity to ensure the impact of project efforts to reduce child labor through the provision of education are sustained after the grant's completion.

c. Budget Plan. The Applicant must develop a country-specific budget of up to US $2 million for the project. This section of the application should explain the costs for performing all of the requirements presented in this solicitation and for producing all required reports and other deliverables presented in this solicitation; costs must include labor, equipment, travel, and other related costs. Preference may be given to applicants with low administrative costs.

d. Management and Staff Loading Plan. This section must also include a management and staff loading plan. The management plan should include the following:

1. A project organization chart and accompanying narrative which differentiates between elements of the Applicant's staff and sub-contractors or consultants who will be retained;

2. A description of the functional relationship between elements of the project's organization;

3. The identity of the individual responsible for project management and the lines of authority between this individual and other elements of the project; and

4. A description of how the organization will systematically monitor and report on project performance to measure the achievement of project objectives.

The staff loading plan should identify all key tasks and the person-days required to complete each task. Labor estimates for each task should be broken down by individuals assigned to the task, including sub-contractors and consultants. All key tasks should be charted to show time required to perform them by months or weeks.

This section will be evaluated in accordance with applicable Federal laws and regulations. The budget must comply with Federal cost principles (which can be found in the applicable OMB Circulars) and with ILAB budget requirements contained in the application instructions in Section III of this solicitation.

2. Experience and Qualifications of the Organization (35 points)

The evaluation criteria in this category are as follows:

a. The organization applying for the award has international experience implementing basic, transitional, and vocational education programs that address issues of access, quality, and policy reform for vulnerable children including children engaged in or at risk of the worst forms of child labor in Zambia or neighboring countries.

b. The organization has a field presence in Zambia, or in the region, or could rapidly establish an office in Zambia that gives it the capability to work directly with government ministries, educators, civil society leaders, and other local faith-based or community organization; the organization can document that it has already established relations of this nature in the target country or can show that it has the capacity to readily establish such relations.

c. The organization has experience working with, or can show it has the ability to work with U.N. and other multilateral and bilateral donor organizations.

The application should include information about previous grants or contracts relevant to this solicitation including:

1. The organization for which the work was done;

2. A contact person in that organization with their current phone number;

3. The dollar value of the grant, contract, or cooperative agreement for the project;

4. The time frame and professional effort involved in the project;

5. A brief summary of the work performed; and

6. A brief summary of accomplishments.

This information on previous grants and contracts shall be provided in appendices and will not count in the 25-page maximum page requirement.

3. Experience and Qualifications of Key Personnel (25 points)

This section of the application must include sufficient information to judge the quality and competence of staff proposed to be assigned to the project to assure that they meet the required qualifications. Successful performance of the proposed work depends heavily on the qualifications of the individuals committed to the project. Accordingly, in its evaluation of the Applicant's application, USDOL will place emphasis on the Applicant's commitment of personnel qualified for the work involved in accomplishing the assigned tasks. Information provided on the experience and educational background of personnel should indicate the following:

a. The identity of key personnel assigned to the project. “Key personnel” are staff who are essential to the successful operation of the project and completion of the proposed work and, therefore, may not be replaced or have hours reduced without the approval of the Grant Officer.

b. The educational background and experience of all staff to be assigned to the project.

c. The special capabilities of staff that demonstrate prior experience in organizing, managing and performing similar efforts.

d. The current employment status of staff and availability for this project. The Applicant should also indicate whether the proposed work will be performed by persons currently employed or is dependent upon planned recruitment or sub-contracting. Note that management and professional technical staff members comprising the Applicant's proposed team should be individuals who have prior experience with organizations working in similar efforts, and are fully qualified to perform work specified in the Statement of Work. Where sub-contractors or outside assistance are proposed, organizational control should be clearly delineated to ensure responsiveness to the needs of USDOL. Key personnel must sign letters of agreement to serve on the project, and indicate availability to commence work within three weeks of grant award.

The following information must be furnished:

a. The Applicant should designate a Program Director (Key Personnel) to oversee the project and be responsible for implementation of the requirements of the grant. The Program Director must have a minimum of three years of professional experience in a leadership role in implementation of complex basic education programs in developing countries in areas such as education policy; improving educational quality and access; teacher training and materials development; educational assessment of disadvantaged students; development of community participation in the improvement of basic education for children engaging in or most at risk of engaging in the worst forms of child labor (including children affected by HIV/AIDS); and monitoring and evaluation of basic education projects. Points will be given for candidates with additional years of experience. Preferred candidates will also have knowledge of child labor issues, and experience in the development of transitional, formal, and vocational education of children removed from child labor and/or victims of the worst forms of child labor.

b. The Applicant should designate an Education Specialist (Key Personnel) who will provide leadership in developing the technical aspects of this project in collaboration with the Project Director. This person must have at least three years experience in basic education projects in developing countries and for highly vulnerable children due to poverty and HIV/AIDS including in areas such as student assessment, teacher training, educational materials development, educational management, and educational monitoring and information systems. This person must have experience in working successfully with ministries of education, networks of educators, employers' and worker associations or comparable entities. Additional experience with child labor, the impact of HIV/AIDS, and education monitoring and evaluation is an asset.

c. The Applicant should specify other personnel proposed to carry out the requirements of this solicitation.

d. The Applicant should include a description of the roles and responsibilities of all personnel proposed for this project and a resume for each professional person to be assigned to the program. Resumes should be attached in an appendix. At a minimum, each resume should include: the individual's current employment status and previous work experience, including position title, duties performed, dates in position, and employing organizations and educational background. Duties should be clearly defined in terms of role performed, e.g., manager, team leader, consultant, etc. Indicate whether the individual is currently employed by the Applicant, and (if so) for how long.

4. Leverage of Grant Funding (5 points)

The Department will give up to five (5) additional rating points to applications that include non-Federal resources that significantly expand the dollar amount, size and scope of the application. These programs will not be financed by the project, but can complement and enhance project objectives. The Applicant may include any leveraging or co-funding anticipated. To be eligible for the additional points in the criterion, the Applicant must list the source(s) of funds, the nature, and possible activities anticipated with these funds under this grant and any partnerships, linkages or coordination of activities, cooperative funding, etc.

Signed at Washington, DC, this 12th day of June, 2002.
Lawrence J. Kuss,
Grant Officer.

Appendix A: SF 424—Application Form.

Appendix B: SF 424A—Budget Information Form.

Appendix C: Background Information on USDOL-Funded Projects in Zambia.

Appendix D: Zambian Implementing Environment and Key Institutions and Organizations Addressing the Education of Child Laborers.

Appendix E: Background Material Available Electronically and in Hard Copy (upon request).

BILLING CODE 4510-28-P

BILLING CODE 4510-28-C

Note: Use Column A to record funds requested for the initial period of performance (i.e. 12 months, 18 months, etc.); Column B to record changes to Column A (i.e. requests for additional funds or line item changes; and Column C to record the totals (A plus B).

Instructions for Part II—Budget Information

Section A—Budget Summary by Categories

1. Personnel: Show salaries to be paid for project personnel which you are required to provide with W2 forms.

2. Fringe Benefits: Indicate the rate and amount of fringe benefits.

3. Travel: Indicate the amount requested for staff travel. Include funds to cover at least one trip to Washington, DC, for project director or designee.

4. Equipment: Indicate the cost of non-expendable personal property that has a useful life of more than one year with a per unit cost of $5,000 or more. Also include a detailed description of equipment to be purchased including price information.

5. Supplies: Include the cost of consumable supplies and materials to be used during the project period.

6. Contractual: Show the amount to be used for (1) procurement contracts (except those which belong on other lines such as supplies and equipment); and (2) sub-contracts/grants.

7. Other: Indicate all direct costs not clearly covered by lines 1 through 6 above, including consultants.

8. Total, Direct Costs: Add lines 1 through 7.

9. Indirect Costs: Indicate the rate and amount of indirect costs. Please include a copy of your negotiated Indirect Cost Agreement.

10. Training /Stipend Cost: (If allowable).

11. Total Federal funds Requested: Show total of lines 8 through 10.

Section B—Cost Sharing/Matching Summary

Indicate the actual rate and amount of cost sharing/matching when there is a cost sharing/matching requirement. Also include percentage of total project cost and indicate source of cost sharing/matching funds, i.e. other Federal source or other Non-Federal source.

Note: Please include a detailed cost analysis of each line item.

Appendix C: Background Information on USDOL-Funded Projects in Zambia

The United States Department of Labor (USDOL) has funded four projects to address child labor in Zambia, including:

Statistical Information and Monitoring Programme on Child Labour: Zambia (1999, US $289,000)—In collaboration with the International Labor Organization's Statistical Information and Monitoring Program on Child Labor (SIMPOC), Zambia's Central Statistical Office (CSO) conducted the 1999 Child Labor Survey in 8,000 households to increase the available base of data on child labor (the final report can be accessed through the Internet at http://132.236.108.39:8050/public/english/standards/ipec/simpoc/zambia/zambia.pdf). The survey report recommended the Copperbelt, Eastern, Northern, and Southern Provinces as priority areas for further information and mobilization campaigns. The project assisted in strengthening local capacity to collect and analyze data on child labor. The CSO is currently working to develop a database to store the relevant information.

National Programme on the Elimination of Child Labour in Zambia (1999, US $630,000)—This program seeks progressive elimination of child labor, especially its worst forms, with a focus on prevention, withdrawal, rehabilitation, and provision of alternatives for working children. It aims to strengthen government capacity to address child labor through the development of a national plan of action, review of national legislation in light of international standards, and activities in collaboration with ministries such as the Ministry of Sports, Youth and Community Developments, Ministry of Labor and Social Services and MOE (See Appendix D). The program aims to withdraw 1,400 children from hazardous and exploitative work in prostitution, domestic service, quarry mines, and on the streets. Withdrawn children are provided education through transitional classes or placement in government or community schools. Some families are provided income-generating opportunities. The program supports the capacity of nongovernmental organizations to provide services to working children and their families primarily in the Lusaka and Copperbelt provinces. As of March 2002, 434 children have been prevented from entering work and 559 children have been withdrawn from hazardous work and provided educational opportunities. Direct action programs are carried out by nongovernmental organizations including: Anglican Street Children Project, Association for the Restoration of Orphans and Street Children, Jesus Cares Ministries, Young Women's Christian Association, Women Finance Cooperative of Zambia, Zambia Children Education Foundation, Zambian Congress of Trade Unions, and Zambia Federation of Employers. A National Steering Committee on Child Labor was established in September 2000 as part of the program that includes committee members (MLSS, MSYCD, MOE, CHIN, Community Youth Concern, UNICEF, Permanent Human Rights Commission, Christian Council of Zambia, and UNESCO) and representatives from employers and workers groups, NGOs, academics and the media.

Prevention, Withdrawal, and Rehabilitation of Children Engaged in Hazardous Work in the Commercial Agriculture Sector in Africa (2000, US $630,000 for Zambia)—One of five participating countries, Zambia seeks to withdraw at least 1,200 children from the worst forms of labor in the commercial cotton and maize production sectors and prevent 3,000 children from entering this market. Withdrawn children are provided basic education and vocational training, and select families are provided income-generating activities. The program seeks to strengthen governmental, nongovernmental, community, employers', and workers' organizations' capacity to identify and eliminate hazardous child labor in plantations. A baseline survey of the agricultural sector is currently being conducted. Project activities will take place in the Eastern, Southern, and Central Provinces.

HIV/AIDS and Child Labour in Sub-Saharan Africa (2001, US $306,000 total)—One of four countries participating in this regional SIMPOC project, Zambia seeks to increase qualitative and quantitative data on the relationship between HIV/AIDS and child labor. Potential target areas for Rapid Assessment research in Zambia include the Copperbelt, Eastern, and Lusaka Provinces.

Appendix D: Zambian Implementing Environment and Key Institutions and Organizations Addressing the Education of Child Laborers

The following section addresses areas of policy and legislation and provides a brief description of key organizations involved in child labor. The information listed here is not exhaustive of the organizations or activities addressing the educational needs of child laborers in Zambia. In considering partnerships, Applicants should not limit themselves only to organizations listed below.

Child labor in Zambia is set in a complex socio-economic situation marked by a deteriorated economy, pervasive poverty, and the HIV/AIDS pandemic that affects all of Zambian society. Successfully addressing the needs of working children and those at risk of engaging in the worst forms of child labor must take into account these larger forces. A number of key Zambian government ministries, international donors, national NGOs and community-based organizations have undertaken approaches to address the above stated problems, with an ultimate aim of improving the lives of the orphaned and vulnerable children who are most at risk of engaging in the worst forms of child labor. Some of these key national-level policy activities include the following:

The National Poverty Reduction Action Plan—The Zambian government began formulating a National Poverty Reduction Action Plan in 1998 that spells out macroeconomic, structural and social plans to reduce poverty levels from 72.9 percent to 50 percent during the period 2000 to 2004. The Action Plan identifies several key national priority development areas including a strategy for meeting the human resource development needs of children and youth by increasing access and quality of basic education and skills training. Other strategies call for achieving broad based economic growth through agriculture and rural development, and increasing productivity of micro-enterprises in the informal and rural sectors. The Ministry of Finance and Economic Development has also completed its Interim Poverty Reduction Strategy Paper, which proposes poverty reduction interventions in all economic and social sectors to achieve sustainable economic growth and employment creation. It recognizes that declining economic conditions contribute to the prevalence of child labor in Zambia.

Child Labor Law—Zambia ratified ILO Convention 138 on the Minimum Age in 1976, the United Nations Convention of the Rights of the Child in 1991, and ILO Convention 182 on the Worst Forms of Child Labor in 2001. Zambian laws pertinent to child labor are somewhat inconsistent and no comprehensive child labor law exists. The Zambian Constitution (1991) addresses the protection of young persons from exploitation and forced labor and defines a young person as anyone under the age of 15. However, the Employment of Children and Young Persons Act (1933) defines a child as anyone under the age of 14 years, and establishes 14 as the minimum age for employment. Numerous laws make mention of children's rights, and several, including the Labor and Industrial Relations Act and Employment Act, pertain to working children. However, children engaged in subsistence agriculture, domestic service or the informal sector are not covered by law. Though there are penalties in the case of illegal employment of a child or young person, there have been no prosecutions for violations. The Ministry of Labor and Social Security has taken the lead in reviewing labor laws and has made recommendations for harmonization of legislation. It found that while the issue of child labor is sufficiently embraced, the multitude of laws are confusing and impair effective enforcement. Additionally, enforcement capacity is weak and does not reach the informal sector where child labor is predominant.

Education Reform—The Zambian government continues to reaffirm its commitment to the Educating Our Future policy of 1996, which strives to achieve universal education on all levels by 2015. The current implementation focus is on the provision of basic education and the Ministry of Education has been working to expand education access for all children through far-reaching education reform. A key program promoting this objective is the Basic Education Sub-sector Investment Program (BESSIP) that began in 1999. With the assistance of the international donor community, BESSIP seeks to improve quality and relevance of education, and specifically decentralizes more management and personnel decisions to the provinces. Decentralization will require that education boards be established in all districts and the MOE will transfer power to their boards. Currently, the MOE is piloting decentralization efforts in four regions: the Copperbelt, Eastern, Northern, and Western Provinces. BESSIP also addresses teacher training, curriculum review, educational material development and distribution, and the building of schools. Among BESSIP's nine components is the Equity and Gender Sub-program which supports improved educational access and monitoring of the educational performance of vulnerable children. Other programs include the Program for the Advancement of Girls' Education (PAGE), supported by USAID, underway in the Southern Province.

Alternative school activities have developed to meet the needs of vulnerable children who are not attending formal school. An estimated 900 schools independent from the existing government structures have been established throughout Zambia that are organized and managed by communities. Some 700 of these community schools serving over 75,000 children have been registered with the Zambian Community School Secretariat, having met certain criteria and standards. These schools do not require school fees of the children, Parent Teacher Association fees, or impose other requirements such as school uniforms or materials that can hamper the poorest children from attending government schools. Another alternative initiative is the Interactive Radio Instruction (IRI) program for out-of-school children launched by the MOE through its Educational Broadcasting Service in 2000. Broadcasting lessons daily, the program has grown to over 350 centers throughout Zambia that reach an estimated 12,000 children. Classes are led by a volunteer mentor identified by the local community who is literate. Lesson plans for Grades 1 and 2 have been piloted and plans for Grade 3 are currently under development.

The Zambian government also provides financial and other support to the most vulnerable children—orphans, street children, children who are poor, out-of-school and working, girls, and children with disabilities. The BESSIP Bursary Scheme and the Zambian Education Capacity Building Program Bursary Scheme (supported by the European Union) pays for the educational expenses of vulnerable children as a way of alleviating some of the problems they face in buying school requisites, uniforms, and payment of user fees. The number of bursaries given a school is decided on in collaboration between a district's education and social welfare authorities and financial compensation goes towards funding children's placements in government or community schools.

A number of government ministries, international donor organizations, national NGOs, and community-based organizations have developed approaches to address barriers to education of child laborers in Zambia. The following are brief descriptions of the organizations and their activities in relation to child labor:

National Government Ministries

There are four separate ministries charged with protecting and providing for the welfare of vulnerable children. They are:

Ministry of Labor and Social Security (MLSS)

The MLSS has overall responsibility for the protection and welfare of workers, in collaboration with trade unions and employer groups. It is charged with enforcement of legislation. The MLSS participates significantly in implementing the objectives of the ILO/IPEC National Program on the Elimination of Child Labor and has established a Child Labor Unit in the MLSS. Program activities focus on strengthening the capacity of the MLSS to monitor, control and prevent child labor in collaboration with other social partners. Labor inspectors have been trained to act against the worst forms of child labor. As mentioned above, the MLSS has undertaken a legislative and policy review of child labor. MLSS has proposed establishing a database to collect information centrally about children removed from work, however, this has yet to be developed.

Ministry of Community Development and Social Services (MCDSS)

The MCDSS is mandated to administer a number of programs providing welfare and support services to children in difficult circumstances, such as abandoned children or those living on the streets. Children are provided food and temporary shelter through collaboration with other government ministries, NGOs, community- and faith-based organizations. The Department of Social Welfare implements the Public Welfare Assistance Scheme, which seeks to increase the quality, quantity and necessary resources of community-based initiatives focused on improving the circumstances of vulnerable children. District social welfare officers, in collaboration with district education authorities, participate in the distribution of the BESSIP Bursary Scheme. An alternative “community” bursary scheme is being piloted, where instead of providing financial assistance for individual children, a community bursary would offer a school a grant to achieve certain targets, such as higher attendance levels. Payments would be made if targets were met. MCDSS staff members collaborate with the MLSS’ Child Labor Unit.

Ministry of Sport, Youth, and Child Development (MSYCD)

The MSYCD formulates policy on the protection, development, and welfare of children. It is responsible for overseeing the enforcement of legislation on the rights of the child and implementing the National Program of Action for Children in Zambia of 1994. The Ministry's Department of Child Affairs' major functions are to advocate for the rights of the child, organize government and nongovernmental programs related to the United Nations Convention on the Rights of the Child, and coordinate aid to orphans and vulnerable children. Some resources are available to help community-based organizations in rural areas on an emergency basis. MSYCD staff members collaborate with the MLSS’ Child Labor Unit.

Ministry of Education (MOE)

The MOE bears the full mandate of providing education to Zambian society. The Ministry's Special Education Inspectorate manages all educational programs, such as skills training centers for children with special learning needs, including those for child laborers. The Special Education Inspectorate collaborates closely with ILO/IPEC and, as a component of the National Program on the Elimination of Child Labor, will carry out sensitization training of MOE staff to issues of child labor, policy and legislative review, and building monitoring capacity. Current pilot activities target a limited number of district education officers, school heads and representatives of Parent Teacher Associations in Lusaka Province. “Transitional classes” will be introduced in five government schools where former child laborers will participate in a learning program before they are mainstreamed into the formal education system. School authorities will develop curriculum and methods appropriate for child laborers to be used in government schools and by NGOs working with former child workers, to ensure that children remain interested in learning and that their progress can be monitored. The approach calls for close collaboration between NGOs, school authorities, counselors, and former child laborers. The MOE has begun to review education laws and policies to recommend that laws are harmonized with child labor laws; their findings will be disseminated to all stakeholders for feedback.

International Donors in Zambia

International Labor Organization's International Program on the Elimination of Child Labor (ILO/IPEC)

See Appendix C.

United Nations International Children's Emergency Fund (UNICEF)

UNICEF has a long working history in Zambia and is the lead donor agency in coordinating child assistance and development needs. The Child Protection Program is taking a central role in the 2002-2006 UNICEF/Government of Zambia County Program of Cooperation in order to support and promote the progressive realization of the rights of children and women to protection, especially for the most vulnerable. The program's initiatives are designed to strengthen community and household capacities to respond to the rapidly increasing number of orphans and vulnerable children.

United States Agency for International Development (USAID)

One of USAID's primary activities has been in working with the MOE and its partners to develop BESSIP into a comprehensive, transparent, decentralized system of delivering quality basic education, and in particular to develop an equitable education system, with a special emphasis on increasing access for girls. One such MOE initiative supported by USAID is PAGE. Another is the Community Supporting Health, HIV/AIDS, Nutrition, Gender and Equity Education in Schools (CHANGES) program in the Eastern and Southern Provinces that provides technical support to the equity and gender, HIV/AIDS education and school health and nutrition components of BESSIP. USAID also funds the Strengthening Community Partnerships for the Employment of Orphans and Vulnerable Children (SCOPE OVC) program that provides grants in the Eastern, Central, Lusaka, Southern and Western Provinces to boost existing community driven programs, sets up district committees to advocate for orphans and vulnerable children and provides linkages to partner organizations in districts. In an effort to facilitate coordination and share information about educational programs in Zambia, an Implementation and Advisory Committee on education programs was established in early 2002 with representation of nongovernmental and government officials implementing or overseeing educational programs.

National Nongovernmental Organizations

Children in Need Network (CHIN)

Formally organized with the support of UNICEF in 1995, CHIN is a network of over 70 nongovernmental, community-based organizations, and two government departments—MSYCD and MCDSS—committed to assisting children in need found largely in the Lusaka, Copperbelt, Eastern, and Southern Provinces. CHIN's mission is to strengthen the ability of families and communities to protect and promote the welfare of children in need in Zambia, and prioritizes work to assist HIV/AIDS orphans, street children, and abused children. CHIN provides members with information and training to strengthen institutional capacity, facilitates networking, and works to raise awareness on the needs and rights of children with the government and public at-large. CHIN developed a communiqué that was used to inform the government about ILO Convention 182 on the Worst Forms of Child Labor during deliberations about ratification. CHIN conducts research and data collection on issues pertaining to orphans and vulnerable children, making its findings available to the public, and advocating for improvements in children's lives.

Zambian Community School Secretariat (ZCSS)

The ZCSS was formed in 1997 with a mission to serve as a unified voice on behalf of community schools and to develop communities into self-sustaining providers of quality education to vulnerable children. ZCSS plays a lead role in formulating policy; coordinating activities and programs in community schools for various stakeholders; advocating for the rights of orphans and vulnerable children, especially girls, to educational services; setting and monitoring standards; building the capacity of teachers and other educational leaders; and mobilizing resources for community schools. Currently, 700 community schools are registered with ZCSS and serve over 75,000 children. ZCSS developed the SPARKS (School, Participation, Access and Relevant Knowledge) curriculum used in many community schools, which condenses the seven-year curriculum of government schools into four years in order to help children who have fallen behind their peers to catch up. In 1998, ZCSS signed a Memorandum of Agreement in which the MOE pledged to assist community schools to access funds, learning materials, teacher-training programs, and provide other support to ZCSS in the provinces. Focal point persons were appointed in all provinces, with the Chief Inspector of Schools serving as the national contact for community schools within the MOE, and community schools have been linked with and received some benefit from the BESSIP Equity and Gender Sub-program. ZCSS has also established a database to track information about its schools and students. Among the family of community schools, one group that has established an effective model for providing quality education is the Zambian Open Community Schools, an umbrella body for 26 community schools in the Lusaka region.

Local NGOs, Community- and Faith-Based Organizations (Including Provinces of Operation and Children Targeted for Services)

• Anglican Children's Project, Lusaka—street children and child prostitutes

• Association for the Restoration of Orphans and Street Children (AROS), Copperbelt—street children and child prostitutes

• Children in Distress Project (CINDI), Southern, Copperbelt, Eastern and Lusaka—orphans

• Development Aid from People to People (DAPP) Children's Town, Central—street children

• Fountain of Hope, Lusaka—street children

• Jesus Cares Ministry, Lusaka—child laborers in quarrying and mining

• Movement of Community Action for the Prevention & Protection of Young People Against Poverty, Destitution, Diseases and Exploitation (MAPODE), Lusaka—child prostitutes and victims of trafficking

• Tasintha, Lusaka—child prostitutes and victims of trafficking

• Young Women's Christian Association (YWCA), Copperbelt—street children

• Zambian Children Education Foundation, Lusaka—child domestic workers and other vulnerable children

• Zambian Red Cross Society, Lusaka—street children

Appendix E: Background Material Available Electronically and in Hard Copy (Upon Request)

1. 1999 Child Labor Survey in Zambia, http://132.236.108.39:8050/public/english/standards/ipec/simpoc/zambia/zambia.pdf.

2. Orphans and Vulnerable Children: A Situation Analysis, Zambia 1999. Joint USAID/UNICEF/SIDA Study Fund Project, November 1999.

3. Document on file at USDOL “HIV/AIDS and Child Labour in Sub-Saharan Africa” (Geneva: ILO, April 2001).

4. Document on file at USDOL “Prevention, Withdrawal and Rehabilitation of Children in Hazardous Work in the Commercial Agriculture Sector in Africa-Country Annex for Zambia” (Geneva: ILO, 2000).

5. Document on file at USDOL “National Programme on the Elimination of Child Labor in Zambia” (Geneva: ILO, 1999).

Hard copies are available from Lisa Harvey, U.S. Department of Labor, Procurement Services Center, telephone (202) 693-4570 (this is not a toll-free number), e-mail: harvey-lisa@dol.gov.

[FR Doc. 02-15302 Filed 6-17-02; 8:45 am]

BILLING CODE 4510-28-C